DEPARTMENT OF COMMERCE

Bureau of the Census

15 CFR Part 50

[Docket Number 020509117-2195-02]

RIN 0607-AA36

Bureau of the Census Certification Process

AGENCY: Bureau of the Census, Department of Commerce.

ACTION: Final rule.

SUMMARY: The Bureau of the Census (Census Bureau) is issuing this final rule to establish the process for requesting certification of Census Bureau documents (i.e., tables, maps, reports, etc.) and the pricing structure for that service. A certification confirms that a product is a true and accurate copy of a Census Bureau document. The Census Bureau is issuing this final rule to create a centralized system for certifying Census Bureau documents and to accurately reflect the true costs associated with certification.

EFFECTIVE DATE: This rule is effective on September 26, 2002.

FOR FURTHER INFORMATION CONTACT: Requests for additional information on this rule should be directed to Les Solomon, Chief, Customer Services Center, Marketing Services Office, U.S. Census Bureau, Room 1585, Federal Building 3, Washington, DC 20233, (301) 763-5377 or by fax (301) 457-4714.

SUPPLEMENTARY INFORMATION:

Background

The Census Bureau has developed standard procedures and pricing policies regarding the certification process.

Over the years, the volume of requests for certified Census Bureau documents has steadily increased. Title 13, Section 8, allows the Census Bureau to provide certain statistical materials upon payment of costs for this service. With the release of Census 2000 data, the volume of requests for certified documents is expected to continue increasing. The price structure includes a preset service fee plus the cost of the resources used in fulfilling the requests, according to the kind of certification requested and its level of difficulty (easy, moderate, or difficult). The two types of certification available are (1) “Impression,” that is, impressing the Census Bureau seal on a document and (2) “Attestation,” a signed statement by Census Bureau officials, attesting to the authenticity, accompanying a document onto which the Census Bureau seal has been impressed.

A certification may be needed for many reasons. For example, parties in a legal proceeding may wish to obtain a copy of a Census Bureau table or map that they wish to introduce into evidence.

In order to create consistent certification rules, the Census Bureau is making the following amendment to Title 15, Code of Federal Regulations (CFR), part 50:

• Add new Section 50.50 containing the Census Bureau's certification process.

• Establish a consistent pricing structure.

• Require requests for certifications to contain information on Form BC-1868(EF), Request for Official Certification. (See the Census Bureau's Web site, <http://www.census.gov/mso/www/certification/>.)

On June 4, 2002, the Census Bureau published in the Federal Register a notice of proposed rulemaking and request for comments on this program (67 FR 38445). The Census Bureau received no comments on the proposed rule.

Administrative Procedure and Regulatory Flexibility Act

A notice of final rulemaking is not required by Title 5, United States Code (U.S.C.), section 553, or any other law, because this rule is procedural in nature and involves a matter relating to public property, loans, grants, benefits, or contracts. Accordingly, it is exempt from the notice and comment provisions of the Administrative Procedure Act under 5 U.S.C. 553(a)(2) and 5 U.S.C.(b)(A). Therefore, the analytical requirements of the Regulatory Flexibility Act are not applicable (5 U.S.C. 601, et seq.). As a result, a Regulatory Flexibility Analysis is not required and none has been prepared.

Executive Orders

This rule has been determined not to be significant for purposes of Executive Order 12866. This rule does not contain policies with federalism implications sufficient to warrant preparation of a federalism assessment under Executive Order 12612.

Paperwork Reduction Act

Notwithstanding any other provision of law, no person is required to respond to, nor shall a person be subject to a penalty for failure to comply with, a collection of information subject to the requirements of the Paperwork Reduction Act (PRA), Title 44, U.S.C., Chapter 35, unless that collection of information displays a current Office of Management and Budget control number. This notice does not represent a collection of information and is not subject to the PRA's requirements. The form referenced in the rule, Form BC-1868(EF), collects only information necessary to process a certification request. As such, it is not subject to the PRA's requirements (5 CFR 1320.3(h)(1)).

List of Subjects in 15 CFR Part 50

Census data, Population census, Seals and insignia, Statistics.

PART 50—SPECIAL SERVICES AND STUDIES BY THE BUREAU OF THE CENSUS

1. The authority citation for 15 CFR Part 50 continues to read as follows:

Authority: Sec. 3, 49 Stat. 293, as amended; 15 U.S.C. 192a. Interprets or applies Sec. 1, 40 Stat. 1256, as amended; Sec. 1, 49 Stat. 292; Sec. 8, 60 Stat. 1013, as amended; 15 U.S.C. 192, 189a; and 13 U.S.C. 8.

2. Add § 50.50 to read as follows:

§ 50.50 Request for certification.

(a) Upon request, the Census Bureau certifies certain statistical materials (such as the population and housing unit counts of government entities, published tabulations, maps, and other documents). The Census Bureau charges customers a preset fee for this service according to the kind of certification requested (either an impressed document or an attestation) and the level of difficulty involved in compiling it (easy, moderate, or difficult, determined according to the resources expended) as well as the set cost of the data product (e.g., report or map) to be certified. Certification prices are shown in the following table:

Price by Type of Certification
Product | Estimated price | Estimated time to complete (in hours)
Impress-easy | $70.00 | 1.5
Impress-medium | 110.00 | 3
Impress-difficult | 150.00 | 4.5
Attestation-easy | 160.00 | 3
Attestation-medium | 200.00 | 4.5
Attestation-difficult | 240.00 | 6

(b) There are two forms of certification available: Impressed Documents and Attestation.

(1) Impressed Documents. An impressed document is one that is certified by impressing the Census Bureau seal on the document itself. The Census Bureau act, Title 13, United States Code, Section 3, provides that the seal of the Census Bureau shall be affixed to all documents authenticated by the Census Bureau and that judicial notice shall be taken of the seal. This process attests that the document on which the seal is impressed is a true and accurate copy of a Census Bureau record.

(2) Attestation. Attestation is a more formal process of certification. It consists of a signed statement by a Census Bureau official that the document is authentic and produced or published by the agency, followed by a signed statement of another Census Bureau official witnessing the authority of the first.

(c) Requests for certification should be submitted on Form BC-1868(EF), Request for Official Certification, to the Census Bureau by fax, (301) 457-4714 or by e-mail, webmaster@census.gov. Form BC-1868(EF) is available on the Census Bureau's Web site at: http://www.census.gov/mso/www/certification/. A letter request—without Form BC-1868(EF)—will be accepted only if it contains the information necessary to complete a Form BC-1868(EF). No certification request will be processed without payment of the required fee.

Dated: August 21, 2002.
Charles Louis Kincannon,
Director, Bureau of the Census.

[FR Doc. 02-21709 Filed 8-26-02; 8:45 am]

BILLING CODE 3510-07-P